DEPARTMENT OF DEFENSE

Department of the Navy

[Docket ID: USN-2022-HQ-0027]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by October 23, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Navy Family Accountability and Assessment System; OMB Control Number 0703-FAAS.

Type of Request: Existing collection in use without an OMB Control Number.

Number of Respondents: 1,674.

Responses per Respondent: 2.

Annual Responses: 3,348.

Average Burden per Response: 3.5 minutes.

Annual Burden Hours: 195.

Needs and Uses: The primary purpose of the Navy Family Accountability and Assessment System (NFAAS) is personnel accountability following a natural or man-made disaster for all Active Duty, Reserve, Navy Civilians, Contractors serving Outside the Continental United States, and their dependents. NFAAS also assesses the impact of the disaster on Navy families and Command's ability to fulfill its missions by providing services and tracking support provided to families in recovery. Additionally, NFAAS supports the sponsor and family members during Sailor Individual Augmentation deployments. This collection of information is authorized by DoDI 3001.02, “Personnel Accountability in Conjunction with Natural or Manmade Disasters,” and OPNAVINST 3006.1, “Personnel Accountability in Conjunction with Catastrophic Events.” Respondents include all Navy personnel who are responsible for accounting after a disaster and updating or verifying sponsor and dependent information. Per DoDI 3001.02, this includes all active and reserve military personnel, Navy civilian employees, Nonappropriated Fund employees, Navy Exchange employees, and OCONUS contractors. CONUS contractors are not included. For the purposes of complying with the Paperwork Reduction Act, the burden estimates in this information collection request only account for respondents who are members of the public.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 18, 2023.
Aaron T. Siegel,
Alternate OSD Federal Register Liaison Officer, Department of Defense.

[FR Doc. 2023-20604 Filed 9-21-23; 8:45 am]

BILLING CODE 5001-06-P